ENVIRONMENTAL PROTECTION AGENCY

40 CFR Part 180

Tolerances and Exemptions from Tolerances for Pesticide Chemicals in Food

CFR Correction

In Title 40 of the Code of Federal Regulations, parts 150-189, revised as of July 1, 1999, page 434, § 180.438(a) table is corrected by adding “0.4” under the heading “parts per million” for the entry “Brassica, head and stem subgroup”.

[FR Doc. 00-55503 Filed 2-15-00; 8:45 am]

BILLING CODE 1505-01-D